DEPARTMENT OF HEALTH AND HUMAN SERVICES

Health Resources and Services Administration

Agency Information Collection Activities: Proposed Collection: Public Comment Request; Information Collection Request Title: Children's Hospitals Graduate Medical Education Payment Program, OMB No. 0915-0247, Revision

AGENCY: Health Resources and Services Administration (HRSA), Department of Health and Human Services.

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than November 4, 2019.

ADDRESSES: Submit your comments, including the ICR Title, to the desk officer for HRSA, either by email to OIRA_submission@omb.eop.gov or by fax to (202) 395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION: When submitting comments or requesting information, please include the ICR title for reference.

Information Collection Request Title: Children's Hospitals Graduate Medical Education Payment Program

OMB No. 0915-0247 Revision

Abstract: In 1999, the Children's Hospitals Graduate Medical Education (CHGME) Payment Program was established by section 4 of the Healthcare Research and Quality Act of 1999 (Pub. L. 106-129) and most recently amended by the Dr. Benjy Frances Brooks Children's Hospital GME Support Reauthorization Act of 2018 (Pub. L. 115-241). The purpose of this program is to fund freestanding children's hospitals to support the training of pediatric and other residents in GME programs. The legislation indicates that eligible children's hospitals will receive payments for both direct and indirect medical education. Direct payments are designed to offset the expenses associated with operating approved graduate medical residency training programs and indirect payments are designed to compensate hospitals for expenses associated with the treatment of more severely ill patients and the additional costs relating to teaching residents in such programs.

A 60-day notice was published in the Federal Register on July 11, 2019, vol. 84, No. 133; pp. 33079-80. There were no public comments.

Need and Proposed Use of the Information: Data are collected on the number of full-time equivalent (FTE) residents in applicant children's hospitals' training programs to determine the amount of direct and indirect medical education payments to be distributed to participating children's hospitals. Indirect medical education payments will be derived from a formula that requires the reporting of discharges, beds, and case mix index information from participating children's hospitals.

Hospitals will also be requested to submit data on the number of resident FTEs trained during the federal fiscal year to participate in the reconciliation payment process. Auditors will be requested to submit data on the number of resident FTEs trained by the hospitals in a resident FTE assessment summary. An assessment of the hospital data ensures that appropriate Medicare regulations and CHGME Payment Program guidelines are followed in determining which residents are eligible to be claimed for funding. The audit results impact final payments made by the CHGME Payment Program to all eligible children's hospitals.

The previously approved information collection included 25 separate forms. Based on feedback from current CHGME Payment Program grantees and a current CHGME resident FTE assessment contractor, this request now includes 30 separate forms. Previously these five additional forms were combined. Specifically:

• HRSA 99-2 is now HRSA 99-2 (Initial) and HRSA 99-2 (Reconciliation);

• Application Cover Letter (Initial and Reconciliation) is now Application Cover Letter (Initial) and Application Cover Letter (Reconciliation)

• Exhibit 2 (Initial, Resident FTE Assessment, Reconciliation) is now Exhibit 2 (Initial and Reconciliation) and Exhibit 2 (FTE Resident Assessment);

• Exhibit 3 (Initial, Resident FTE Assessment, Reconciliation) is now Exhibit 3 (Initial and Reconciliation) and Exhibit 3 (FTE Resident Assessment); and

• Exhibit 4 (Initial, Resident FTE Assessment, Reconciliation) is now Exhibit 4 (Initial and Reconciliation) and Exhibit 4 (FTE Resident Assessment).

Based on this same feedback, the burden hours for a number of forms was revised which resulted in an increase in burden hours from 8,018.40 hours as published in the 60-day Federal Register notice to 8,197.80 hours.

Likely Respondents: Hospitals applying for and receiving CHGME funds and fiscal intermediaries auditing data submitted by the hospitals receiving CHGME funds.

Burden Statement: Burden in this context means the time expended by persons to generate, maintain, retain, disclose or provide the information requested. This includes the time needed to review instructions; to develop, acquire, install and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Total estimated annualized burden hours: form name | Number of respondents | Number of responses per respondent | Total responses | Average burden per response (in hours) | Total burden hours
Application Cover Letter (Initial) | 60 | 1 | 60 | 0.33 | 19.8
Application Cover Letter (Reconciliation) | 60 | 1 | 60 | 2.50 | 150.0
HRSA 99 (Initial and Reconciliation) | 60 | 2 | 120 | 0.33 | 39.6
HRSA 99-1 (Initial) | 60 | 1 | 60 | 26.50 | 1,590.0
HRSA 99-1 (Reconciliation) | 60 | 1 | 60 | 6.50 | 390.0
HRSA 99-1 (Supplemental) (FTE Resident Assessment) | 30 | 2 | 60 | 3.67 | 220.2
HRSA 99-2 (Initial) | 60 | 1 | 60 | 9.67 | 580.2
HRSA 99-2 (Reconciliation) | 60 | 1 | 60 | 2.84 | 170.4
HRSA 99-4 (Reconciliation) | 60 | 1 | 60 | 12.50 | 750.0
HRSA 99-5 (Initial and Reconciliation) | 60 | 2 | 120 | 0.33 | 39.6
CFO Form Letter (Initial and Reconciliation) | 60 | 2 | 120 | 0.33 | 39.6
Exhibit 2 (Initial and Reconciliation) | 60 | 2 | 120 | 0.33 | 39.6
Exhibit 3 (Initial and Reconciliation) | 60 | 2 | 120 | 1.83 | 219.6
Exhibit 4 (Initial and Reconciliation) | 60 | 2 | 120 | 0.33 | 39.6
FTE Resident Assessment Cover Letter (FTE Resident Assessment) | 30 | 2 | 60 | 0.25 | 15.0
Conversation Record (FTE Resident Assessment) | 30 | 2 | 60 | 1.00 | 60.0
Exhibit C (FTE Resident Assessment) | 30 | 2 | 60 | 3.50 | 210.0
Exhibit F (FTE Resident Assessment) | 30 | 2 | 60 | 1.50 | 90.0
Exhibit N (FTE Resident Assessment) | 30 | 2 | 60 | 3.50 | 210.0
Exhibit O(1) (FTE Resident Assessment) | 30 | 2 | 60 | 3.50 | 210.0
Exhibit O(2) (FTE Resident Assessment) | 30 | 2 | 60 | 30.00 | 1,800.0
Exhibit P (FTE Resident Assessment) | 30 | 2 | 60 | 3.50 | 210.0
Exhibit P(2) (FTE Resident Assessment) | 30 | 2 | 60 | 3.50 | 210.0
Exhibit S (FTE Resident Assessment) | 30 | 2 | 60 | 3.50 | 210.0
Exhibit T (FTE Resident Assessment) | 30 | 2 | 60 | 3.50 | 210.0
Exhibit T(1) (FTE Resident Assessment) | 30 | 2 | 60 | 0.25 | 15.0
Exhibit 1 (FTE Resident Assessment) | 30 | 2 | 60 | 3.50 | 210.0
Exhibit 2 (FTE Resident Assessment) | 30 | 2 | 60 | 0.33 | 19.8
Exhibit 3 (FTE Resident Assessment) | 30 | 2 | 60 | 3.50 | 210.0
Exhibit 4 (FTE Resident Assessment) | 30 | 2 | 60 | 0.33 | 19.8
Total | * 90 |  | * 90 |  | 8,197.80
* The total is 90 because the same hospitals and auditors are completing the forms.

Maria G. Button,
Director, Division of the Executive Secretariat.

[FR Doc. 2019-21680 Filed 10-3-19; 8:45 am]

BILLING CODE 4165-15-P